ENVIRONMENTAL PROTECTION AGENCY

[FRL-9945-59-Region 10]

Proposed Issuance of NPDES General Permit for Idaho Drinking Water Treatment Facilities (Permit Number IDG380000)

AGENCY: Environmental Protection Agency (EPA).

ACTION: Notice of proposed issuance of NPDES General Permit and request for public comment.

SUMMARY: The Environmental Protection Agency (EPA) Region 10 proposes to issue a National Pollutant Discharge Elimination System (NPDES) General Permit for Drinking Water Treatment Facilities in Idaho (DWGP). This proposed draft DWGP is intended to provide coverage for seven existing facilities with expired individual permits, in addition to any new applicants who are eligible for coverage. The seven existing permittees have individual permits which were issued on November 1, 2006, and expired on October 31, 2011. These seven permittees currently operate under an administrative extension of their individual permits. When issued, the DWGP will replace these seven administratively extended individual permits. As proposed, the DWGP authorizes the discharge from drinking water treatment facilities to surface waters within the State of Idaho from existing facilities and new facilities interested in seeking coverage. The draft DWGP contains technology-based and water quality-based effluent limitations for conventional and toxic pollutants, along with administrative reporting and monitoring requirements, as well as standard conditions, prohibitions, and management practices. A description of the basis for the conditions and requirements of the proposed general permit is given in the Fact Sheet.

Section 401 of the Clean Water Act, 33 U.S.C. 1341, requires EPA to seek a certification from the State of Idaho that the conditions of the DWGP comply with State water quality standards. The Idaho Department of Environmental Quality (IDEQ) has provided a draft certification that the draft DWGP complies with State of Idaho Water Quality Standards (IDAPA 58.01.02), including the State's antidegradation policy. EPA intends to seek a final certification from IDEQ prior to issuing the DWGP. This is also notice of the draft § 401 certification provided by IDEQ. Persons wishing to comment on the draft State certification should send written comments to Nicole Deinarowicz; Idaho Department of Environmental Quality, State Office, Surface Water Program; 1410 North Hilton Street; Boise, Idaho 83706 or via email to nicole.deinarowicz@deq.idaho.gov

DATES: The public comment period for the draft DWTP commences today and comments must be received or postmarked no later than midnight Pacific Daylight Time on May 25, 2016. All comments related to the draft DWGP and Fact Sheet received by EPA Region 10 by the comment deadline will be considered prior to issuing the final DWGP.

ADDRESSES: Comments on the draft DWGP may be sent to: Kai Shum, Office of Water and Watersheds; USEPA Region 10; 1200 6th Ave, Suite 900, OWW-191; Seattle, Washington 98101. Comments may also be submitted by fax to (206) 553-1280 or electronically to Shum.Kai@epa.gov (make sure to write “Comments on the Draft Idaho Drinking Water Treatment Facilities General Permit” in the subject line).

Hand Delivery/Courier: Deliver comments to Kai Shum, EPA Region 10, Office of Water and Watersheds, Mail Stop OWW-191, 1200 6th Avenue, Suite 900, Seattle, WA 98101-3140. Call (206) 553-0060 before delivery to verify business hours.

Viewing and/or Obtaining Copies of Documents. A copy of the draft DWGP and the Fact Sheet, which explains the proposal in detail, may be obtained by contacting EPA at 1 (800) 424-4372. Copies of the documents are also available for viewing and downloading at: https://yosemite.epa.gov/r10/WATER.NSF/NPDES+Permits/DraftPermitsID. Requests may also be made to Audrey Washington at (206) 553-0523 or washington.audrey@epa.gov.

FOR FURTHER INFORMATION CONTACT: Kai Shum, Office of Water and Watersheds, U.S. Environmental Protection Agency, Region 10. Contact information included above in the “Submitting Comments” Section.

SUPPLEMENTARY INFORMATION: Executive Order 12866: The Office of Management and Budget (OMB) exempts this action from the review requirements of Executive Order 12866 pursuant to Section 6 of that order.

Economic Impact [Executive Order 12291]: The EPA has reviewed the effect of Executive Order 12291 on this Draft DWGP and has determined that it is not a major rule pursuant to that Order.

Paperwork Reduction Act [44 U.S.C. 3501 et seq.] The EPA has reviewed the requirements imposed on regulated facilities in the Draft DWGP and finds them consistent with the Paperwork Reduction Act of 1980, 44 U.S.C. 3501 et seq.

Regulatory Flexibility Act [5 U.S.C. 601 et seq.] The Regulatory Flexibility Act (RFA) requires that EPA prepare an initial regulatory flexibility analysis for rules subject to the requirements of the Administrative Procedures Act [APA, 5 U.S.C. 553] that have a significant impact on a substantial number of small entities. However, EPA has concluded that NPDES General Permits are not rulemakings under the APA, and thus not subject to APA rulemaking requirements or the RFA.

Unfunded Mandates Reform Act

Section 201 of the Unfunded Mandates Reform Act (UMRA), Public Law 104-4, generally requires Federal agencies to assess the effects of their regulatory actions (defined to be the same as rules subject to the RFA) on tribal, state, and local governments, and the private sector. However, General NPDES Permits are not rules subject to the requirements of the APA, and are, therefore, not subject to the UMRA.

Authority: This action is taken under the authority of Section 402 of the Clean Water Act as amended, 42 U.S.C. 1342. I hereby provide public notice of the Draft Idaho DWGP in accordance with 40 CFR 124.10.

Dated: April 18, 2016.
Daniel D. Opalski,
Director, Office of Water and Watersheds, Region 10.

[FR Doc. 2016-09602 Filed 4-22-16; 8:45 am]

BILLING CODE 6560-50-P